DEPARTMENT OF ENERGY

Federal Energy Regulatory Commission

[Project No. 13563-003]

Juneau Hydropower, Inc.; Notice of Intent To Prepare Environmental Impact Statement and Soliciting Comments, and Final Recommendations, Terms and Conditions, and Prescriptions

November 17, 2014.

Take notice that the following hydroelectric application and applicant-prepared environmental assessment has been filed with Commission and is available for public inspection.

a. Type of Application: Original Major License.

b. Project No.: 13563-003.

c. Date filed: May 29, 2014.

d. Applicant: Juneau Hydropower, Inc.

e. Name of Project: Sweetheart Lake Hydroelectric Project.

f. Location: On Lower Sweetheart Lake and Sweetheart Creek in the City and Borough of Juneau, Alaska. The project would occupy about 2,058 acres of federal lands located in the Tongass National Forest administered by the U.S. Forest Service.

g. Filed Pursuant to: Federal Power Act, 16 U.S.C. 791(a)-825(r).

h. Applicant Contact: Duff W. Mitchell, Business Manager, Juneau Hydropower, Inc., P.O. Box 22775, Juneau, AK 99802; (907) 789-2775.

i. FERC Contact: John Matkowski at (202) 502-8576, john.matkowski@ferc.gov.

j. Deadline for filing comments, final recommendations, terms and conditions, and prescriptions: 60 days from the issuance date of this notice; reply comments are due 105 days from the issuance date of this notice.

The Commission strongly encourages electronic filing. Please file comments, and final recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13563-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Commission intends to prepare an Environmental Impact Statement (EIS) on the project in accordance with the National Environmental Policy Act. The EIS will consider both site-specific and cumulative environmental impacts and reasonable alternatives to the proposed action.

m. The proposed Sweetheart Lake Project would consist of the following new features: (1) A 280-foot-long, 111-foot-high roller compacted concrete gravity dam with a 125-foot-long spillway located at the outlet of Sweetheart Lake; (2) a 128,019 acre-foot impoundment at normal-maximum water level; (3) a 525-foot-long, 10-foot-high, 10-foot-wide arched reservoir outlet tunnel at the right dam abutment; (4) a 45-foot-long, 25-foot-wide, 16-foot-high rectangular concrete intake structure with six 7-foot-diameter, 10-foot-high cylindrical fish screens adjacent to the right dam abutment; (5) a 9,621-foot-long, 15-foot-wide,15-foot-high arched, unlined power tunnel; (6) a 9-foot-diameter, 896-foot-long saddle-supported steel penstock installed within the lower power tunnel; (7) three, 3- to 7-foot-diameter, approximately 160-foot-long buried steel penstocks connecting the lower portion of the power tunnel to the powerhouse; (8) a 160-foot-long, 60-foot-wide, 30-foot-high powerhouse; (9) three 6.6-megawatt (MW) horizontal-axis Francis turbine/generator units having a total capacity of 19.8 MW; (10) a 541-foot-long, 30- to 90-foot-wide tailrace discharging into Sweetheart Creek; (11) a 4,400-foot-long coastal access road; (12) a dock/landing site for aerial and marine vehicle access located on the east shore of Gilbert Bay; (13) a 45,900-foot-long, 138-kilovolt (kV) transmission line traversing Gilbert Bay, the Snettisham Peninsula, and Port Snettisham, consisting of: (a) Two buried segments totaling 4,800 feet in length, (b) two submarine segments totaling 25,700 feet in length, and (c) one 15,400-foot-long overhead segment; (14) a 14,800-foot-long, 12.47-kV service transmission line and communication cable providing electricity and communications to Sweetheart Dam; (15) an approximately 22,000-square-foot fenced switchyard; (16) a 25-foot-long, 5-foot-wide, 4-foot-deep smolt reentry pool adjacent to the powerhouse; (17) a 4,225-square-foot caretaker facility; (18) a 400-square-foot dam site shelter facility; and (19) appurtenant facilities. The project is estimated to generate an average of 116 gigawatt-hours annually.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

o. Public notice of the filing of the initial development application, which has already been given, established the due date for filing competing applications or notices of intent. Under the Commission's regulations, any competing development application must be filed in response to and in compliance with public notice of the initial development application. No competing applications or notices of intent may be filed in response to this notice.

p. Procedural Schedule:

The application will be processed according to the following hydro licensing schedule. Revisions to the schedule may be made as appropriate.

Milestone | Target date
Filing of final recommendations, terms and conditions, and prescriptions | January 2015.
Commission issues Draft EIS | August 2015.
Comments on Draft EIS | October 2015.
Commission Issues Final EIS | March 2016.

q. A license applicant must file no later than 60 days following the date of issuance of this notice: (1) A copy of the water quality certification; (2) a copy of the request for certification, including proof of the date on which the certifying agency received the request; or (3) evidence of waiver of water quality certification.

Kimberly D. Bose,
Secretary.

[FR Doc. 2014-27612 Filed 11-20-14; 8:45 am]

BILLING CODE 6717-01-P